DEPARTMENT OF COMMERCE

Submission for OMB Review; Comment Request

The Department of Commerce will submit to the Office of Management and Budget (OMB) for clearance the following proposal for collection of information under the provisions of the Paperwork Reduction Act (44 U.S.C. Chapter 35).

Agency: National Telecommunications and Information Administration.

Title: Public Telecommunications Facilities Program (PTFP) Application Form.

Form Number(s): None.

OMB Approval Number: 0660-0003.

Type of Review: Regular submission.

Burden Hours: 23,830.

Number of Respondents: 300.

Average Hours per Response: On-line application, 75 hours; printed application, 84 hours. In addition, in every grant cycle, NTIA/PTFP requires revised information to be submitted by applicants under serious consideration for funding, 4 hours for an on-line application, and 7 hours for a printed application.

Needs and Uses: The PTFP assist, through matching funds, in the planning and construction of public telecommunications facilities. The application makes possible the required competitive review process for making decisions on which applicants are funded.

Affected Public: Not-for-profit institutions; state, local, or tribal government.

Frequency: Annually.

Respondent's Obligation: Required to obtain or retain benefits.

OMB Desk Officer: Alison Zaleski, (202) 395-6466.

Copies of the above information collection proposal can be obtained by calling or writing Diana Hynek, Departmental Paperwork Clearance Officer, (202) 482-0266, Department of Commerce, Room 6625, 1401 Constitution Avenue, NW., Washington, DC 20230 (or via the Internet at dHynek@doc.gov).

Written comments and recommendations for the proposed information collection should be sent within 30 days of publication of this notice to Alison Zaleski, OMB Desk Officer, fax number (202) 395-5806, or on the Internet at azaleski@omb.eop.gov.

Dated: October 24, 2006.
Gwellnar Banks,
Management Analyst, Office of the Chief Information Officer.

[FR Doc. E6-18004 Filed 10-26-06; 8:45 am]

BILLING CODE 3510-60-P